DEPARTMENT OF STATE

[Delegation of Authority No. 466]

Delegation of Authorities to the Chief Information Officer

By virtue of the authority vested in me as Secretary of State, including the authority of Section 1 of the State Department Basic Authorities Act, as amended (22 U.S.C. 2651a), I hereby delegate to the Chief Information Officer, to the extent authorized by law, all authorities and functions vested in the agency head by the following authorities:

(1) The Federal Information Security Management Act of 2014, as amended;

(2) the Federal Information Technology Acquisition Reform Act (section 831 of Pub. L. 113-291);

(3) Executive Order 13833 of May 15, 2018; or

(4) any other information technology statute, regulation, executive order, or other provision of law that vests or will vest information technology authorities in the Secretary of State.

Any reference in this delegation of authority to any provision of law shall be deemed to be a reference to such provision of law as amended from time to time. “Information technology” has the meaning given that term under capital planning guidance issued by the Office of Management and Budget.

The Chief Information Officer may, to the extent consistent with law, re-delegate such functions and authorize their successive re-delegation.

Delegation of Authority No. 247-1 is hereby terminated. No other delegations of authority are affected by this action.

Except to the extent inconsistent with this delegation of authority, all other delegations of authority and all determinations, authorizations, regulations, rulings, certificates, orders, directives, contracts, agreements, and other actions made, issued or entered into with respect to any function affected by this delegation of authority and not revoked, superseded, or otherwise made inapplicable before the effective date of this delegation of authority, shall continue in full force and effect until modified, amended, or terminated by appropriate authority.

The exercise by the Chief Information Officer of the authorities prescribed herein prior to the effective date of this delegation of authority, is hereby confirmed and ratified.

This delegation of authority shall be published in the Federal Register.

Dated: March 25, 2019.
Michael R. Pompeo,
Secretary of State, Department of State.

[FR Doc. 2019-06990 Filed 4-5-19; 8:45 am]

BILLING CODE 4710-22-P